DEPARTMENT OF COMMERCE

National Oceanic and Atmospheric Administration

Submission for OMB Review; Comment Request

The Department of Commerce will submit to the Office of Management and Budget (OMB) for clearance the following proposal for collection of information under the provisions of the Paperwork Reduction Act.

Agency: National Oceanic and Atmospheric Administration (NOAA).

Title: Reporting of Sea Turtle Entanglement in Fishing Gear or Marine Debris.

OMB Control Number: 0648-0496.

Form Number(s): None.

Type of Request: Regular (extension of a currently approved information collection).

Number of Respondents: 111.

Average Hours per Response: Reports and Sea Turtle Disentanglement Network responses, 1 hour each; interviews of fishermen, 30 minutes.

Burden Hours: 165.

Needs and Uses: This request is for extension of a currently approved information collection.

Sea turtles can become accidentally entangled in active or discarded fishing gear, marine debris, or other line in the marine environment. Entanglement has the potential to cause serious injury or mortality, which would negatively impact the recovery of endangered and threatened sea turtle populations. The National Oceanic and Atmospheric Administration's (NOAA) National Marine Fisheries Service (NMFS) established the Sea Turtle Disentanglement Network (STDN) to respond to these entanglement events, in particular those involving the vertical line of fixed gear fisheries. The STDN's goals are to increase reporting, to reduce serious injury and mortality to sea turtles, and to collect information that can be used for mitigation of these threats. As there is limited observer coverage of fixed gear fisheries, the STDN data are invaluable to NMFS in understanding the threat of entanglement and working towards mitigation.

Affected Public: Not-for-profit institutions; business or other for-profit organizations; individuals or households; Federal government and state, local and tribal governments.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 21, 2017.
Sarah Brabson,
NOAA PRA Clearance Officer.

[FR Doc. 2017-13337 Filed 6-26-17; 8:45 am]

BILLING CODE 3510-22-P